DEPARTMENT OF STATE

[Public Notice 6592]

Bureau of Educational and Cultural Affairs (ECA) Request for Grant Proposals: E-Teacher Scholarship Program and Professional Development Workshop

Announcement Type: New Cooperative Agreement.

Funding Opportunity Number: ECA/A/L-09-04.

Catalog of Federal Domestic Assistance Number: 00.000.

Key Dates: (Pending award of funds).

Anticipated Award Date: September 1, 2009.

Anticipated Program Start Date: September 14, 2009.

Anticipated Program End Date: December 31, 2010.

Application Deadline: June 8, 2009.

Executive Summary: The Office of English Language Programs of the Bureau of Educational and Cultural Affairs (ECA/A/L) announces an open competition for the E-Teacher Scholarship Program and Professional Development Workshop. Accredited U.S. post-secondary educational institutions or consortia of such institutions meeting the provisions described in Internal Revenue Code section 26 USC 501(c)(3) may submit proposals to implement the following two components: (1) Seven different ten- to twelve-week Online, university level English as a Foreign Language (EFL) professional development courses for a total of approximately five hundred EFL teachers from throughout the world, and (2) a three-week professional development workshop for approximately twenty-six EFL professionals from diverse geographic regions of the world. For the Online courses, participants will receive university level instruction in the most recent English language teaching methods and techniques as well as an introduction to U.S. educational values and will interact with U.S. experts via innovative distance learning. The professional development workshop will provide the participants a basis for their continuing contact with U.S. counterparts in order to promote mutual understanding between the people of the U.S. and other countries.

Post-secondary educational institutions are encouraged to apply in a consortium with other post-secondary institutions, although they may apply independently. The E-Teacher Scholarship Program and Professional Development Workshop advance the U.S. Department of State's goals by improving the quality of English language teaching throughout the world.

ECA will award one Cooperative Agreement for the administration of these two program components to be implemented during the academic year 2009-2010. The total funding available for program and administrative purposes is anticipated to be approximately $750,000.

I. Funding Opportunity Description

Authority: Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Purpose: The E-Teacher Scholarship Program and Professional Development Workshop offer professional development for English language teaching professionals through Online courses provided by one or more U.S. universities. The courses introduce the most recent English language teaching methods and techniques, including English for Specific Purposes, offer the opportunity to engage in a distance-learning program that employs the latest in modern technology, and provide direct access to U.S. experts with whom participants might not normally have the opportunity to interact. By creating a forum for international communication and by encouraging critical thinking and the active application of new information skills and other aspects of successful learning, the E-Teacher Scholarship Program and Professional Development Workshop foster the Bureau's goal of mutual understanding.

Background: In FY-2004, the U.S. Department of State launched the E-Teacher Scholarship Program as a pilot program. ECA contracted with six U.S. post-secondary institutions to deliver five courses: Assessment for EFL, Teaching Critical Thinking, English for Business, English for Law, and Teaching English to Young Learners (primary school level). The Program is currently operating or has operated in the following 79 countries: Afghanistan, Albania, Algeria, Argentina, Azerbaijan, Bahrain, Bangladesh, Benin, Bolivia, Bosnia and Herzegovina, Brazil, Burkina Faso, Burma, Cambodia, Chad, Chile, China, Colombia, Costa Rica, Cuba, Cyprus, the Dominican Republic, Ecuador, Egypt, Georgia, Guinea, Haiti, India, Indonesia, Iraq, Israel, Jordan, Kazakhstan, Kenya, Kosovo, Kuwait, Kyrgyzstan, Lebanon, Libya, Malaysia, Maldives, Mali, Mauritania, Mexico, Mongolia, Morocco, Mozambique, Nicaragua, Niger, Nigeria, Oman, Pakistan, Panama, Paraguay, Peru, Philippines, Qatar, Russia, Saudi Arabia, Senegal, South Africa, Sri Lanka, Sudan, Syria, Tajikistan, Tanzania, Thailand, Togo, Trinidad and Tobago, Tunisia, Turkey, Turkmenistan, United Arab Emirates, Uruguay, Uzbekistan, Venezuela, Vietnam, West Bank/Gaza, and Yemen. All participants are nominated through U.S. Embassies and selected by the Office of English Language Programs (ECA/A/L). In the past, the program was funded by ECA through purchase agreements. The FY-09 program will be funded for the first time through a Cooperative Agreement and will incorporate for the first time the professional development workshop component.

Guidelines: In addition to providing practical and applicable information about using innovative English language teaching methods, the seven courses and the workshop are required to have adequate and appropriate content to give the participants insights into U.S. culture. Another important goal of the E-Teacher Scholarship Program and Professional Development Workshop is for participants to share the knowledge gained during the program with colleagues through workshops or professional presentations in their home countries. To best meet this latter goal, proposals should include some type of follow-on component, such as a final project or a module for the effective dissemination or application of the information provided in the program.

Cooperative Agreement: In a Cooperative Agreement, ECA/A/L is substantially involved in the program activities, above and beyond routine grant monitoring, including the selection of the scholarship participants based on input from the U.S. Embassies. For the Online course component, ECA/A/L will also oversee the curriculum, make recommendations for program start dates, propose revisions in program format when necessary, and maintain close communication with the course provider(s) for proper program management. For the workshop component, ECA/A/L will consult with the provider on the content, design, and length of the program and recommend revisions when necessary.

Cooperative Agreement Recipient Responsibilities: The recipient consortium or organization awarded the E-Teacher Scholarship Program and Professional Development Workshop Cooperative Agreement from ECA will be responsible for the following activities:

1. Provide seven different ten- to twelve-week Online, university level English Language Teaching (ELT) professional development courses during the U.S. academic year 2009-2010. With a maximum of thirty students per class, the number of classes for each subject will depend on the demand for the courses and the capacity of the course provider(s). Each course could be offered in both the fall and spring semesters of the academic year. The courses will familiarize participants with U.S. student-centered teaching methods and the latest methods and techniques in teaching English as a Foreign Language. To build on and incorporate components of ECA/A/L's existing materials in “Shaping the Way We Teach English” (see http://OELP.uoregon.edu/Shaping.html to view the materials), three of the courses should be Assessment, Teaching Critical Thinking, and Teaching English to Young Learners. Each course should include some of the materials in “Shaping the Way We Teach English,” specifically the video segments. The course provider should expand and update these materials, as appropriate, to create the full course. The remaining courses should be relevant to the professional development of English language teachers worldwide and may include, for example, Teaching Grammar Communicatively, General Methodology, or other essential aspects of English language teaching, as well as courses in English for Specific Purposes (ESP), such as English for Business or English for Law. These additional courses should incorporate a video component, similar to the format of the “Shaping” modules, which may be used by ECA/A/L in its teacher training programs with English language teachers abroad. The proposal should include for each course projected dates and a syllabus of content. The award recipient must subsequently submit for each course an annotated bibliography of recommended titles related to each course (approximately fifteen to twenty titles per course). ECA/A/L retains the right to print, publish, repurpose, and distribute abroad the bibliography in all media, including electronic media, and in all languages and editions.

2. Design and administer in collaboration with ECA/A/L one three-week professional development workshop for twenty-six foreign English language teaching professionals nominated by the U.S. Embassies' Public Affairs Section with input from the Regional English Language Officer (RELO) and approved by ECA/A/L. The workshop, which will be implemented in the summer of 2010, will focus on methodology, linguistic enhancement, educational leadership, cultural interchange, and “best practices” in the classroom. The participants will be encouraged to develop a teacher-training project to implement in their home countries following the exchange program.

The workshop should encompass the following elements:

(a) Orientation upon arrival in the U.S.;

(b) Intensive education in relevant topics and language teaching methodologies;

(c) Cultural and community service activities to encourage interaction and mutual understanding.

Applicant organizations should submit a narrative outlining a comprehensive strategy for the administration and implementation of the program. The narrative should include a design for the program, a syllabus of course content, and a plan for monitoring and evaluating the foreign English teachers' academic performance in the program.

3. Submit intermediate and end-of-project reports of database information in Microsoft Word and Excel formats, as appropriate, to ECA/A/L.

It is anticipated that the Cooperative Agreement will begin on or about September 1, 2009, and the recipient should complete all program activities by December 31, 2010. The program workshop will take place in the summer of 2010. Please refer to additional program specific guidelines in the Project Objectives, Goals, and Implementation (POGI) document.

II. Award Information

Type of Award: Cooperative Agreement.

ECA's level of involvement in this program is listed under number 1 above.

Fiscal Year Funds: 2009.

Approximate Total Funding: $750,000.

Approximate Number of Awards: 1.

Approximate Average Award: $750,000.

Anticipated Award Date: September 1, 2009.

Anticipated Project Completion Date: December 31, 2010.

Additional Information: Pending successful implementation of this program and the availability of funds in subsequent fiscal years, it is ECA's intent to renew this Cooperative Agreement for two additional fiscal years, before openly competing it again. Subsequent agreements may include activities to extend the Program to other countries throughout the world and may not include start up costs for certain activities described in this RFGP and the Project Objectives, Goals, and Implementation (POGI) as being completed in FY-2009.

III. Eligibility Information

III.1. Eligible applicants: Applications may be submitted by public or private non-profit organizations meeting the provisions described in Internal Revenue Code section 26 USC 501(c)(3).

III.2. Cost Sharing or Matching Funds: There is no minimum or maximum percentage required for this competition. However, ECA encourages applicants to provide the highest possible levels of cost sharing and funding in support of its programs.

When cost sharing is offered, it is understood and agreed that the applicant must provide the amount of cost sharing as stipulated in its proposal and later included in an approved agreement. Cost sharing may be in the form of allowable direct or indirect costs. For accountability, the recipient organization must maintain written records to support all costs which are claimed as its contribution as well as costs to be paid by the Federal government. Such records are subject to audit. The basis for determining the value of cash and in-kind contributions must be in accordance with OMB Circular A-110, (Revised), Subpart C.23—Cost Sharing and Matching. In the event the recipient does not provide the minimum amount of cost sharing as stipulated in the approved budget, ECA's contribution will be reduced in like proportion.

III.3. Other Eligibility Requirements:

Cooperative Agreements awarded to eligible organizations with less than four years of experience in conducting international exchange programs will be limited to $60,000. ECA anticipates awarding one Cooperative Agreement in an amount up to $750,000 to support program and administrative costs required to implement this exchange program. Therefore, organizations with less than four years experience in conducting international exchanges are ineligible to apply for this Cooperative Agreement. ECA encourages applicants to provide maximum levels of cost sharing and funding in support of its programs.

IV. Application and Submission Information

Note: Please read the complete Federal Register announcement before sending inquiries or submitting proposals. Once the RFGP deadline has passed, ECA staff may not discuss this competition with applicants until the proposal review process has been completed.

IV.1. Contact Information to Request an Application Package:

Please contact Michael Rudder, Program Officer in the Office of English Language Programs, ECA/A/L, Room 304, U.S. Department of State, SA-44, 301 4th Street, SW., Washington, DC 20547, telephone (202) 453-8846, or fax (202) 453-8858 to request a Solicitation Package. When making your request, please refer to the Funding Opportunity Number ECA/A/L-09-04 located at the top of this announcement.

Alternatively, an electronic application package may be obtained from the grants.gov Web site at http://grants.gov. Please see section IV.3f for further information.

The Solicitation Package contains the Proposal Submission Instruction (PSI) document, which consists of required application forms, and standard guidelines for proposal preparation.

It also contains the Project Objectives, Goals and Implementation (POGI) document, which provides specific information, award criteria and budget instructions tailored to this competition.

Please specify Michael Rudder and refer to the Funding Opportunity Number ECA/A/L-09-04 located at the top of this announcement on all other inquiries and correspondence.

IV.2. To Download a Solicitation Package via Internet: The entire Solicitation Package may be downloaded from the Bureau's Web site at http://exchanges.state.gov/grants/open2.html, or from the Grants.gov Web site at http://www.grants.gov. Please read all information before downloading.

IV.3. Content and Form of Submission: Applicants must follow all instructions in the Solicitation Package. The application should be submitted per the instructions under the IV.3f. “Application Deadline and Methods of Submission” section below.

IV.3a. Applicants are required to have a Dun and Bradstreet Data Universal Numbering System (DUNS) number to apply for a grant or Cooperative Agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424, which is part of the formal application package.

IV.3b. All proposals must contain an executive summary, proposal narrative and budget. Please refer to the Solicitation Package. It contains the mandatory Proposal Submission Instructions (PSI) document and the Project Objectives, Goals and Implementation (POGI) document for additional formatting and technical requirements.

IV.3c. Applicants must have non-profit status with the IRS at the time of application. Please note: Effective January 7, 2009, all applicants for ECA Federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit the information above in the format of their choice.

In addition to final program reporting requirements, award recipients will also be required to submit a one-page document, derived from their program reports, listing and describing their grant activities. For award recipients, the names of directors and/or senior executives (current officers, trustees, and key employees), as well as the one-page description of grant activities, will be transmitted by the State Department to OMB, along with other information required by the Federal Funding Accountability and Transparency Act (FFATA), and will be made available to the public by the Office of Management and Budget on its USASpending.gov Web site as part of ECA's FFATA reporting requirements.

If the organization is a private non-profit organization which has not received a grant or Cooperative Agreement from ECA in the past three years, or if the organization received non-profit status from the IRS within the past four years, the necessary documentation to verify non-profit status as directed in the PSI document must be submitted in the application. Without this documentation, the proposal will be declared technically ineligible.

IV.3d. Please take into consideration the following information when preparing your proposal narrative:

IV.3d.1. Adherence To All Regulations Governing The J-Visa:

The Bureau of Educational and Cultural Affairs (ECA) places critically important emphasis on the security and proper administration of the Exchange Visitor (J-Visa) Programs and adherence by grantees and sponsors to all regulations governing the J-Visa. Therefore, proposals should demonstrate the applicant's capacity to meet all requirements governing the administration of the Exchange Visitor Programs as set forth in 22 CFR 62, including the oversight of Responsible Officers and Alternate Responsible Officers, provision of pre-arrival information and orientation to participants, monitoring of participants, proper maintenance and security of forms, record-keeping, reporting, and other requirements. The award recipient organization will be responsible for issuing DS-2019 forms to participants in this program.

A copy of the complete regulations governing the administration of Exchange Visitor (J-Visa) programs is available at http://exchanges.state.gov or from: United States Department of State, Office of Exchange Coordination and Designation, ECA/EC/ECD-SA-44, Room 734, 301 4th Street, SW., Washington, DC 20547, Telephone: (202) 203-5029, FAX: (202) 453-8640.

Please refer to the Solicitation Package for further information.

IV.3d.2. Diversity, Freedom and Democracy Guidelines:

Pursuant to ECA's authorizing legislation, programs must maintain a non-political character and should be balanced and representative of the diversity of U.S. political, social, and cultural life. “Diversity” should be interpreted in the broadest sense and encompass differences including, but not limited to, ethnicity, race, gender, religion, geographic location, socio-economic status, and disabilities. Applicants are strongly encouraged to adhere to the advancement of this principle both in program administration and in program content. Please refer to the review criteria under the ‘Support for Diversity’ section for specific suggestions on incorporating diversity into the proposal. Public Law 104-319 stipulates that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents to the full extent deemed feasible.

IV.3d.3. Program Monitoring and Evaluation

Proposals must include a plan to monitor and evaluate the project's success, both as the activities unfold and at the end of the program. The Bureau recommends that each proposal include a draft survey questionnaire or other evaluation/assessment technique plus a description of the methodology to be used to link outcomes to original project objectives. The Bureau expects that the recipient organization will track participants and be able to respond to key evaluation questions, including satisfaction with the program, learning as a result of the program, changes in behavior as a result of the program, and effects of the program on the institutions in which the participants work or partner institutions. The evaluation plan should include indicators that measure gains in mutual understanding as well as substantive knowledge.

Successful monitoring and evaluation depend heavily on setting clear goals and outcomes at the outset of a program. The evaluation plan should include a description of the project's objectives, anticipated project outcomes, and how and when the applicant will measure these outcomes (performance indicators). The more that these outcomes are “smart” (specific, measurable, attainable, results-oriented, and placed in a reasonable time frame), the easier it will be to conduct the evaluation. Applicants should also show how the project objectives link to the goals of the program described in this RFGP.

The monitoring and evaluation plan should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent the specific results a project is intended to achieve and are usually measured as an extent of change. Findings on both outputs and outcomes should be reported, but the focus should be on outcomes.

Applicants should assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavioral and institutional changes are normally considered longer-term outcomes.

Overall, the quality of the monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to ECA upon request.

IV.3e. Applicants should take the following information into consideration when preparing their budgets:

IV.3e.1. Applicants must submit SF-424A—“Budget Information—Non-Construction Programs” along with a comprehensive budget for the entire program. There must be a summary budget as well as breakdowns reflecting both administrative and program budgets. Applicants may provide separate sub-budgets for each program component, phase, location, or activity to provide clarification. ECA specifically recommends that applicants submit a plan and budget not to exceed $200,000 for the three-week workshop for twenty-six participants to be conducted under the terms of this Cooperative Agreement. ECA/A/L will closely supervise the Cooperative Agreement recipient's activities in the development of these plans and will have final approval authority of same.

IV.3e.2. Allowable costs for the program, as outlined in detail in the POGI, include the following:

(1) ECA's goal is to maximize the number of English language teaching participants and expects that approximately eighty-five percent or more of the funds provided through this Cooperative Agreement will be used for implementation of mandatory program elements described under Section 1 of this RFGP. Also, applicants should explain how they will ensure cost-effective arrangements based on non-credit enrollment and/or other methods according to formulas that can be protected from increases in tuition rates.

(2) Administrative costs may include staff salaries, including staff to plan and conduct the workshop aspects/elements of the Program and the Program Monitoring and Evaluation requirements specified in IV.3d.3. of the RFGP.

(3) The budget for designing and administering the workshop should include, but not be limited to, the following: The participants' international and domestic transportation, U.S. per diem, space rental, workshop materials, etc. For travel budgeting purposes, participants will come from around the world. Please refer to the Solicitation Package for complete budget guidelines and formatting instructions.

IV.3f. Application Deadline and Methods of Submission:

Application Deadline Date: June 8, 2009.

Reference Number: ECA/A/L-09-04.

Methods of Submission: Applications may be submitted in one of two ways:

(1.) In hard-copy, via a nationally recognized overnight delivery service (i.e., DHL, Federal Express, UPS, Airborne Express, or U.S. Postal Service Express Overnight Mail, etc.), or

(2.) Electronically through http://www.grants.gov.

Please Note: ECA strongly encourages organizations interested in applying for this competition to submit printed, hard copy applications as outlined in section IV.3f.1., below rather than submitting electronically through Grants.gov. This recommendation is being made as a result of the anticipated high volume of grant proposals that will be submitted via the Grants.gov web portal as part of the Recovery Act stimulus package. As stated in these RFGPs, ECA bears no responsibility for data errors resulting from transmission or conversion processes for proposals submitted via Grants.gov.

Along with the Project Title, all applicants must enter the above Reference Number in Box 11 on the SF-424 contained in the mandatory Proposal Submission Instructions (PSI) of the solicitation document.

IV.3f.1. Submitting Printed Applications

Please Note: ECA strongly encourages organizations interested in applying for this competition to submit printed, hard copy applications as outlined in section IV.3f.1. above, rather than submitting electronically through Grants.gov. This recommendation is being made as a result of the anticipated high volume of grant proposals that will be submitted via the Grants.gov web portal as part of the Recovery Act stimulus package. As stated in these RFGPs, ECA bears no responsibility for data errors resulting from transmission or conversion processes for proposals submitted via Grants.gov. Please follow the instructions available in the “Get Started” portion of the site (http://www.grants.gov/GetStarted).

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify an applicant upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Applicants must follow all instructions in the Solicitation Package.

Important note: When preparing your submission please make sure to include one extra copy of the completed SF-424 form and place it in an envelope addressed to “ECA/EX/PM”.

The original and 15 copies of the application should be sent to: U.S. Department of State, SA-44, Bureau of Educational and Cultural Affairs, Ref.: ECA/A/L—09-04, Program Management, ECA/EX/PM, Room 534, 301 4th Street, SW., Washington, DC 20547.

Applicants submitting hard-copy applications must also submit the “Executive Summary” and “Proposal Narrative” sections of the proposal in text (.txt) or Microsoft Word format on a PC-formatted disk. ECA will provide these files electronically to the appropriate Public Affairs Section at the U.S. Embassy for its review.

IV.3f.2. Submitting Electronic Applications

Applicants have the option of submitting proposals electronically through Grants.gov (http://www.grants.gov). Complete solicitation packages are available at Grants.gov in the “Find” portion of the system.

Please Note: ECA strongly encourages organizations interested in applying for this competition to submit printed, hard copy applications as outlined in section IV.3f.1. above, rather than submitting electronically through Grants.gov. This recommendation is being made as a result of the anticipated high volume of grant proposals that will be submitted via the Grants.gov web portal as part of the Recovery Act stimulus package. As stated in these RFGPs, ECA bears no responsibility for data errors resulting from transmission or conversion processes for proposals submitted via Grants.gov. Please follow the instructions available in the “Get Started” portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors, including the size of the application and the speed of an applicant's Internet connection. In addition, validation of an electronic submission via Grants.gov can take up to two business days.

Therefore, we strongly recommend that an applicant not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support, Contact Center Phone: 800-518-4726, Business Hours: Monday-Friday, 7 a.m.-9 p.m. Eastern Time. E-mail: support@grants.gov.

Applicants have until midnight (12 a.m.), Washington, DC time, of the closing date to ensure that their entire application has been uploaded to the Grants.gov site. There are no exceptions to the above deadline. Applications uploaded to the site after midnight of the application deadline date will be automatically rejected by the grants.gov system and will be technically ineligible. Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov Web portal to ensure that proposals have been received by Grants.gov in their entirety, and ECA bears no responsibility for data errors resulting from transmission or conversion processes.

IV.3f. Intergovernmental Review of Applications:

Executive Order 12372 does not apply to this program.

V. Application Review Information

V.1. Review Process

The Bureau will review all proposals for technical eligibility. Proposals will be deemed ineligible if they do not fully adhere to the guidelines stated herein and in the Solicitation Package. All eligible proposals will be reviewed by the program office as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the U.S. Department of State's Assistant Secretary for Educational and Cultural Affairs. Final technical authority for assistance awards Cooperative Agreements resides with the Bureau's Grants Officer.

Review Criteria

1. Program Planning and Ability to Achieve Program Objectives: Proposals should exhibit originality, substance, precision, and relevance to the Bureau's mission. Detailed agenda and relevant work plan should demonstrate substantive undertakings and logistical capacity. Agenda and plan should adhere to the program overview and guidelines described above. Objectives should be reasonable, feasible, and flexible. Proposals should clearly demonstrate how the institution will meet the program's objectives and plan.

2. Multiplier: Proposed programs should strengthen long-term mutual understanding, including maximum sharing of information and establishment of long-term institutional and individual linkages.

3. Diversity: Proposals should demonstrate the recipient's commitment to promoting the awareness and understanding of diversity.

4. Institutional Capacity and Track Record: Proposed personnel and institutional resources should be adequate and appropriate to achieve the program or project's goals. Proposed programs should include at least one staff member with a minimum of a Master's degree in the field of Teaching English as a Second/Foreign Language or Applied Linguistics. Proposals should demonstrate an institutional record of successful exchange programs, including responsible fiscal management and full compliance with all reporting requirements for past Bureau grants as determined by the Bureau's Office of Contracts. The Bureau will consider the past performance of prior recipients and the demonstrated potential of new applicants.

5. Evaluation and Follow-on: Proposals should include a plan to evaluate the activity's success, both as the activities unfold and at the end of the program. The Bureau recommends that the proposal include a draft survey questionnaire or other technique plus description of a methodology to be used to link outcomes to original project objectives. Award-receiving organizations/institutions will be expected to submit intermediate reports after each project component is concluded or quarterly, whichever is less frequent. Proposals should provide a plan for continued follow-on activity (without Bureau support) which insures that Bureau supported programs are not isolated events.

6. Cost Effectiveness and Cost Sharing: The overhead and administrative components of the proposal, including salaries and honoraria, should be kept as low as possible. All other items should be necessary and appropriate. Proposals should maximize cost-sharing through other private sector support as well as institutional direct funding contributions.

Technically eligible applications will be competitively reviewed according to the criteria stated below. These criteria are not rank ordered, and all carry equal weight in the proposal evaluation.

VI. Award Administration Information

VI.1a. Award Notices: Final awards cannot be made until funds have been appropriated by Congress, allocated and committed through internal Bureau procedures. Successful applicants will receive an Assistance Award Document (AAD) from the Bureau's Grants Office. The AAD and the original Cooperative Agreement proposal with subsequent modifications (if applicable) shall be the only binding authorizing document between the recipient and the U.S. Government. The AAD will be signed by an authorized Grants Officer and mailed to the recipient's responsible officer identified in the application.

Unsuccessful applicants will receive notification of the results of the application review from the ECA program office coordinating this competition.

VI.1b. The following additional requirements apply to this project:

A critical component of current U.S. government Iran policy is the support for indigenous Iranian voices. The State Department has made the awarding of grants for this purpose a key component of its Iran policy. As a condition of licensing these activities, the Office of Foreign Assets Control (OFAC) has requested the Department of State to follow certain procedures to effectuate the goals of Sections 481(b), 531(a), 571, 582, and 635(b) of the Foreign Assistance Act of 1961 (as amended); 18 U.S.C. sections 2339A and 2339B; Executive Order 13224; and Homeland Security Presidential Directive 6. These licensing conditions mandate that the Department conduct a vetting of potential Iran grantees and sub-grantees for counter-terrorism purposes. To conduct this vetting the Department will collect information from grantees and sub-grantees regarding the identity and background of their key employees and Boards of Directors.

Note: To assure that planning for the inclusion of Iran complies with requirements, please contact ECA/A/L Program Officer Michael Rudder at telephone 202-453-8846 or e-mail RudderME@state.gov for additional information.

VI.2—Administrative and National Policy Requirements: Terms and Conditions for the Administration of ECA agreements include the following:

Office of Management and Budget (OMB) Circular A-122, “Cost Principles for Nonprofit Organizations”

OMB Circular A-21, “Cost Principles for Educational Institutions”

OMB Circular A-87, “Cost Principles for State, Local and Indian Governments”

OMB Circular A-110 (Revised), “Uniform Administrative Requirements for Grants and Agreements with Institutions of Higher Education, Hospitals, and other Nonprofit Organizations”

OMB Circular A-102, “Uniform Administrative Requirements for Grants-in-Aid to State and Local Governments”

OMB Circular A-133, “Audits of States, Local Government, and Non-profit Organizations”

Please reference the following Web sites for additional information: http://www.whitehouse.gov/omb/grants; http://fa.statebuy.state.gov.

VI.3. Reporting Requirements:

The Cooperative Agreement organization must provide ECA with a hard copy original plus one copy of the following reports:

(1.) A final program and financial report no more than 90 days after the expiration of the award;

(2.) A concise, one-page final program report summarizing program outcomes no more than ninety days after the expiration of the award. This one-page report will be transmitted to OMB, and be made available to the public via OMB's USAspending.gov Web site—as part of ECA's Federal Funding Accountability and Transparency Act (FFATA) reporting requirements.

(3.) A SF-PPR, “Performance Progress Report” Cover Sheet with all program reports.

The Cooperative Agreement recipient will be required to provide reports analyzing its evaluation findings to the Bureau in its regular program reports. Please refer to IV. Application and Submission Instructions (IV.3.d.3) above for Program Monitoring and Evaluation information.

All data collected, including survey responses and contact information, must be maintained for a minimum of three years and provided to the Bureau upon request. All reports must be sent to the ECA Grants Officer and ECA Program Officer listed in the final assistance award document.

VI.4. Additional Program Data Requirements: The Cooperative Agreement organization will be required to maintain specific data on program participants and activities in an electronically accessible database format that can be shared with ECA upon request. As a minimum, the data must include the following:

(1) Name, address, contact information and biographic sketch of all persons who travel internationally on funds provided by the Cooperative Agreement or who benefit from its funding but do not travel.

(2) Itineraries of international and domestic travel, providing dates of travel and cities in which any exchange experiences take place. Final schedules for in-country and U.S. activities must be received by the ECA Program Officer at least three business days prior to the official opening of the activity.

VII. Agency Contacts

For questions about this announcement, contact: Michael Rudder, Office of English Language Programs, ECA/A/L, Room 304, U.S. Department of State, SA-44, 301 4th Street, SW., Washington, DC 20547, (202) 453-8846 and fax (202) 453-8858, RudderME@state.gov.

All correspondence with the Bureau concerning this RFGP should reference the above title and number ECA/A/L-09-04.

Please read the complete announcement before sending inquiries or submitting proposals. Once the RFGP deadline has passed, ECA staff may not discuss this competition with applicants until the proposal review process has been completed.

VIII. Other Information

Notice:

The terms and conditions published in this RFGP are binding and may not be modified by any ECA representative. Explanatory information provided by ECA that contradicts published language will not be binding. Issuance of the RFGP does not constitute an award commitment on the part of the Government. ECA reserves the right to reduce, revise, or increase proposal budgets in accordance with the needs of the program and the availability of funds. Awards will be subject to periodic reporting and evaluation requirements per section VI.3 above.

Dated: April 17, 2009.
C. Miller Crouch,
Acting Assistant Secretary for Educational and Cultural Affairs, Department of State.

[FR Doc. E9-9353 Filed 4-23-09; 8:45 am]

BILLING CODE 4710-05-P